DEPARTMENT OF TRANSPORTATION

Federal Aviation Administration

[Summary Notice No. PE-2003-30]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, Sandy Buchanan-Sumter (202) 267-7271, or Denise Emrick (202) 267-5174, Office of Rulemaking (ARM-1), Federal Aviation Administration, 800 Independence Avenue, SW., Washington, DC 20591.

This notice is published pursuant to 14 CFR 11.85 and 11.91.

Issued in Washington, DC on May 23, 2003.
Donald P. Byrne,
Assistant Chief Counsel for Regulations.

Dispositions of Petitions

Docket No.: FAA-2001-8693.

Petitioner: Beverly Air Transport.

Section of 14 CFR Affected: 14 CFR 135.143(c)(2).

Description of Relief Sought/Disposition: To permit Beverly Air Transport to operate certain aircraft under part 135 without a TSO-C112 (Mode S) transponder installed in those aircraft.

Grant, 05/02/2003, Exemption No. 8040.

Docket No.: FAA-2003-14879.

Petitioner: Xtrajet, Inc.

Section of 14 CFR Affected: 14 CFR 135.152(a).

Description of Relief Sought/Disposition: To permit Xtrajet to operate it's 1973 Gulfstream G-1159 airplane under part 135 without the airplane being equipped with an approved digital flight data recorder.

Grant, 05/05/2003, Exemption No. 8044.

Docket No.: FAA-2003-14377.

Petitioner: Evergreen Helicopters International, Inc.

Section of 14 CFR Affected: 14 CFR 135.152(a).

Description of Relief Sought/Disposition: To permit Evergreen Helicopters International, Inc. to operate its Bell Model 212 helicopters under part 135 without each Bell Model 212 being equipped with an approved digital flight data recorder.

Grant, 05/02/2003, Exemption No. 8043.

Docket No.: FAA-2002-11938.

Petitioner: Friends of Allen County Airport.

Section of 14 CFR Affected: 14 CFR 135.251, 135.255, and 135.353, and appendices I and J to part 121.

Description of Relief Sought/Disposition: To permit Friends of Allen County Airport to conduct local sightseeing flights at the Allen County Airport, Iola, Kansas, on June 14, 2003, for compensation or hire, without complying with certain anti-drug and alcohol misuse prevention requirements of part 135.

Grant, 05/05/2003, Exemption No. 8045.

Docket No.: FAA-2003-14918.

Petitioner: Aero Charter and Transport, Inc.

Section of 14 CFR Affected: 14 CFR 135.143(c)(2).

Description of Relief Sought/Disposition: To permit Aero Charter and Transport, Inc. to operate certain aircraft under part 135 without a TSO-C112 (Mode S) transponder installed in those aircraft.

Grant, 05/05/2003, Exemption No. 8047.

Docket No.: FAA-2001-9379.

Petitioner: Air Transport Association.

Section of 14 CFR Affected: 14 CFR 121.613, 121.619(a), and 121.625.

Description of Relief Sought/Disposition: To permit Air Transport Association member airlines and other similarly situated part 121 operators to continue to dispatch airplanes under instrument flight rules when conditional language in a one-time increment of the weather forecast states that the weather at the destination airport, alternate airport, or both airports could be below the authorized weather minimums when other time increments of the weather forecast state that weather conditions will be at or above the authorized weather minimums.

Grant, 05/02/2003, Exemption No. 3585N.

Docket No.: FAA-2003-14930.

Petitioner: Air Arctic, Inc.

Section of 14 CFR Affected: 14 CFR 135.143(c)(2).

Description of Relief Sought/Disposition: To permit Air Arctic, Inc. to operate certain aircraft under part 135 without a TSO-C112 (Mode S) transponder installed in those aircraft.

Grant, 05/05/2003, Exemption No. 8048.

Docket No.: FAA-2001-9135.

Petitioner: The Boeing Company.

Section of 14 CFR Affected: 14 CFR 91.611.

Description of Relief Sought/Disposition: To permit The Boeing Company to conduct ferry flights with one engine inoperative on its Boeing 707, 720, 727, 747, DC-10, MD-10, and MD-11 airplanes without obtaining a special ferry permit.

Grant, 05/05/2003, Exemption No. 4467I.

Docket No.: FAA-2003-14921.

Petitioner: Wilson Aviation.

Section of 14 CFR Affected: 14 CFR 135.143(c)(2).

Description of Relief Sought/Disposition: To permit Wilson Aviation to operate certain aircraft under part 135 without a TSO-C112 (Mode S) transponder installed in those aircraft.

Grant, 05/05/2003, Exemption No. 8046.

Docket No.: FAA-2003-14920.

Petitioner: Southeast Air Charter.

Section of 14 CFR Affected: 14 CFR 135.143(c)(2).

Description of Relief Sought/Disposition: To permit Southeast Air Charter to operate certain aircraft under part 135 without a TSO-C112 (Mode S) transponder installed in those aircraft.

Grant, 05/02/2003, Exemption No. 8042.

Docket No.: FAA-2003-15039.

Petitioner: Hudson Air Service, Inc.

Section of 14 CFR Affected: 14 CFR 135.143(c)(2).

Description of Relief Sought/Disposition: To permit Hudson Air Service, Inc. to operate certain aircraft under part 135 without a TSO-C112 (Mode S) transponder installed in those aircraft.

Grant, 05/02/2003, Exemption No. 8041.

Docket No.: FAA-2001-9791.

Petitioner: NockAir Helicopter, Inc.

Section of 14 CFR Affected: 14 CFR 133.43(a) and (b).

Description of Relief Sought/Disposition: To permit NockAir Helicopter, Inc. to use its helicopters to perform aerial trapeze acts without using an approved external-load attachment or quick release device for carrying a person on a trapeze bar.

Grant, 05/06/2003, Exemption No. 6685C.

Docket No.: FAA-2001-10425.

Petitioner: National Test Pilot School.

Section of 14 CFR Affected: 14 CFR 91.319(a)(1) and (2).

Description of Relief Sought/Disposition: To permit the National Test Pilot School to operate aircraft that have experimental certificates to train flight-test students, who are pilots and flight engineers, through the demonstration and practice of flight-test techniques and to teach those students flight-test data acquisition methods for compensation. Additionally, the exemption revises the list of aircraft covered by the exemption.

Grant, 05/09/2003, Exemption No. 5778H.

Docket No.: FAA-2000-8185.

Petitioner: U.S. Airways, Inc.

Section of 14 CFR Affected: 14 CFR 121.440(a) and SFAR 58, paragraph 6(b)(3)(ii)(A).

Description of Relief Sought/Disposition: To permit U.S. Airways, Inc. to meet line check requirements using an alternative line check program, subject to certain conditions and limitations.

Grant, 05/09/2003, Exemption No. 7665A.

Docket No.: FAA-2003-14895.

Petitioner: KP Air Service.

Section of 14 CFR Affected: 14 CFR 135.143(c)(2).

Description of Relief Sought/Disposition: To permit KP Air Service to operate certain aircraft under part 135 without a TSO-C112 (Mode S) transponder installed in those aircraft.

Grant, 05/08/2003, Exemption No. 8050.

Docket No.: FAA-2003-14894.

Petitioner: Falcon Aviation, Inc.

Section of 14 CFR Affected: 14 CFR 135.143(c)(2).

Description of Relief Sought/Disposition: To permit Falcon Aviation, Inc. to operate certain aircraft under part 135 without a TSO-C112 (Mode S) transponder installed in those aircraft.

Grant, 05/08/2003, Exemption No. 8051.

Docket No.: FAA-2003-15040.

Petitioner: West Texas Helicopter.

Section of 14 CFR Affected: 14 CFR 135.143(c)(2).

Description of Relief Sought/Disposition: To permit West Texas Helicopter to operate certain aircraft under part 135 without a TSO-C112 (Mode S) transponder installed in those aircraft.

Grant, 05/08/2003, Exemption No. 8052.

Docket No.: FAA-2001-10091.

Petitioner: Mr. Lloyd E. Swenson.

Section of 14 CFR Affected: 14 CFR 91.109(a) and (b)(3).

Description of Relief Sought/Disposition: To permit Mr. Swenson to conduct certain flight instruction and simulated instrument flights to meet recent instrument experience requirements in certain Beechcraft airplanes equipped with a functioning throwover control wheel in place of functioning dual controls.

Grant, 05/06/2003, Exemption No. 7593A.

[FR Doc. 03-13545 Filed 5-29-03; 8:45 am]

BILLING CODE 4910-13-P